DEPARTMENT OF HEALTH AND HUMAN SERVICES

National Institutes of Health

Workshop on Exploring the Science Surrounding the Safe Use of Bioactive Ingredients in Infant Formula: Considerations for an Assessment Framework

AGENCY: National Institutes of Health, Health and Human Services (HHS).

ACTION: Notice.

SUMMARY: This 2-day, virtual workshop—Exploring the Science Surrounding the Safe Use of Bioactive Ingredients in Infant Formula: Considerations for an Assessment Framework—focuses on the functional state-of-the-science of biologically active human milk components and analogs and the implications for safety assessments when used in infant formula.

DATES: The Meeting will be held on September 23-24, 2021, from 10:30 a.m. to 4:30 p.m. (ET).

ADDRESSES: This workshop will be videocast at https://videocast.nih.gov.

FOR FURTHER INFORMATION CONTACT: For information concerning this meeting, contract Dr. Ashley Vargas, Pediatric Growth and Nutrition Branch, Division of Extramural Research, Eunice Kennedy Shriver National Institute of Child Health and Human Development, 6701B Rockledge Drive, Room 2423C, Bethesda, MD 20817, telephone: 301-827-6030, email: ashley.vargas@nih.gov.

SUPPLEMENTARY INFORMATION: This Federal Register notice is in accordance with 42 U.S.C. 285g, of the Public Health Service Act, as amended. This workshop is led by the Eunice Kennedy Shriver National Institute of Child Health and Human Development (NICHD), the National Institutes of Health (NIH) Office of Dietary Supplements (ODS), and the Food and Drug Administration (FDA). The workshop is free and open to the public. The workshop will be livestreamed, and the video will be archived. Registration will be available for this meeting at https://www.nichd.nih.gov/about/meetings/2021/092321.

Alison N. Cernich,
Deputy Director, Eunice Kennedy Shriver National Institute of Child Health and Human Development, National Institutes of Health.

[FR Doc. 2021-16118 Filed 7-28-21; 8:45 am]

BILLING CODE 4140-01-P